DEPARTMENT OF HOMELAND SECURITY

Coast Guard

33 CFR Part 100

[Docket No. USCG-2019-0219]

Special Local Regulations; Crystal Pier Outrigger Race, San Diego, CA

AGENCY: Coast Guard, DHS.

ACTION: Notice of enforcement of regulation.

SUMMARY: The Coast Guard will enforce special local regulations for the Crystal Pier Outrigger Race on May 11, 2019. These special local regulations are necessary to provide for the safety of the participants, crews, spectators, sponsor vessels of the event and general users of the waterway. During the enforcement period, persons and vessels are prohibited from entering into, transiting through, or anchoring within these regulated areas unless authorized by the Captain of the Port, or his designated representative.

DATES: The regulations in 33 CFR 100.1101 will be enforced for the Crystal Pier Outrigger Race regulated areas from 7 a.m. to 5 p.m. on May 11, 2019.

FOR FURTHER INFORMATION CONTACT: If you have questions about this notice of enforcement, call or email Lieutenant Briana Biagas, Waterways Management, U.S. Coast Guard Sector San Diego, CA; telephone (619) 278-7656, email D11MarineEventsSD@uscg.mil.

SUPPLEMENTARY INFORMATION: The Coast Guard will enforce special local regulations in 33 CFR 100.1101 for the Crystal Pier Outrigger Race regulated areas from 7 a.m. to 5 p.m. on May 11, 2019. This action is being taken to provide for the safety of life on navigable waterways during this event. Our regulation for recurring marine events in the San Diego Captain of the Port Zone, § 100.1101, specifies the location of the regulated areas for the Crystal Pier Outrigger Race which encompasses portions of Mission Bay, the Main Entrance Channel, Sail Bay, Fiesta Bay, South Shore Channel, and waters adjacent to Crown Point Beach Park. Under the provisions of 33 CFR 100.1101, persons and vessels are prohibited from entering into, transiting through, or anchoring within this regulated area unless authorized by the Captain of the Port, or his designated representative. The Coast Guard may be assisted by other Federal, State, or local law enforcement agencies in enforcing this regulation.

In addition to this notice of enforcement in the Federal Register, the Coast Guard plans to provide notification of this enforcement period via the Local Notice to Mariners, Broadcast Notice to Mariners, and local advertising by the event sponsor.

If the Captain of the Port Sector San Diego or his designated representative determines that the regulated area need not be enforced for the full duration stated on this document, he or she may use a Broadcast Notice to Mariners or other communications coordinated with the event sponsor to grant general permission to enter the regulated area.

Dated: April 18, 2019.
J.R. Buzzella,
Captain, U.S. Coast Guard, Captain of the Port San Diego.

[FR Doc. 2019-09568 Filed 5-8-19; 8:45 am]

BILLING CODE 9110-04-P